DEPARTMENT OF THE INTERIOR

Bureau of Indian Affairs

[178A2100DD/AAKC001030/A0A501010.999900 253G]

Land Acquisitions; The Chickasaw Nation

AGENCY: Bureau of Indian Affairs, Interior.

ACTION: Notice.

SUMMARY: This notice informs the public that the Principal Deputy Assistant Secretary—Indian Affairs proclaimed approximately 30.03 acres, more or less, of land near the Town of Willis, Marshall County, Oklahoma (Willis Site) in trust for the Chickasaw Nation for gaming and other purposes on January 19, 2017.

FOR FURTHER INFORMATION CONTACT: Ms. Paula L. Hart, Director, Office of Indian Gaming, Bureau of Indian Affairs, MS-3657 MIB, 1849 C Street NW., Washington, DC 20240, telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On January 19, 2017, the Principal Deputy Assistant Secretary—Indian Affairs issued a decision to accept the Willis Site, consisting of approximately 30.03 acres, more or less, of land in trust for the Chickasaw Nation (Nation), under the authority of the Indian Reorganization Act, 25 U.S.C. 5108. The Principal Deputy Assistant Secretary—Indian Affairs determined that Nation's request also meets the requirements of the Indian Gaming Regulatory Act's “Oklahoma exception,” 25 U.S.C. 2719(a)(2)(A)(i), to the general prohibition contained in 25 U.S.C. 2719(a) on gaming on lands acquired in trust after October 17, 1988.

The Principal Deputy Assistant Secretary—Indian Affairs, on behalf of the Secretary of the Interior, will immediately acquire title to the Willis Site in the name of the United States of America in trust for the Nation upon fulfillment of Departmental requirements.

The 30.03 acres, more or less, are located in Marshall County, Oklahoma, and are described as follows:

A parcel or tract of land in the Southeast Quarter of Section 1, Township 8 South, Range 4 East, of the Indian Meridian, Marshall County, Oklahoma, more particularly described as follows:

Commencing at the Southeast corner of said Southeast Quarter;

THENCE South 89°30′30″ West, along the South line of said Southeast Quarter, a distance of 787.65 feet to a point on the easterly right of way line of State Highway 99 (U.S. Highway 377) as shown on Federal Aid Secondary Project No. S-896 (2) (3)-S Plans (SWO 2294 (1)), said point being North 89°30′30″ East 1857.50 feet from the Southwest Corner of said Southeast Quarter;

THENCE along said easterly right of way line, the following eight (8) courses:

1. North 04°26′00″ West a distance of 50.12 feet;

2. North 86°03′31″ West a distance of 323.45 feet;

3. North 04°26′00″ West a distance of 237.02 feet;

4. North 06°52′36″ East a distance of 305.94 feet;

5. North 04°26′00″ West a distance of 580.00 feet;

6. North 15°44′36″ West a distance of 9.87 feet to the POINT OF BEGINNING;

7. continuing North 15°44′36″ West, a distance of 372.55 feet;

8. North 04°26′00″ West a distance of 940.17 feet;

THENCE North 89°29′14″ East, parallel with the North line of said Southeast Quarter, a distance of 1078.65 feet;

THENCE South 00°39′14″ East, parallel with the East line of said Southeast Quarter, a distance of 135.71 feet;

THENCE South 89°20′46″ West a distance of 30.00 feet;

THENCE South 00°39′14″ East, parallel with the East line of said Southeast Quarter, a distance of 552.00 feet;

THENCE South 03°47′57″ East a distance of 330.34 feet;

THENCE South 04°34′12″ East a distance of 280.92 feet;

THENCE South 89°30′30″ West, parallel with the South line of said Southeast Quarter, a distance of 927.00 feet to the POINT OF BEGINNING. Said described tract of land contains an area of 1,036,772 square feet or 29.9994 acres, more or less. SURFACE ONLY.

As surveyed in True North bearings, more particularly described as follows:

A tract of land in the Southeast Quarter (SE/4) of Section One (1), Township Eight (8) South, Range Four (4) East, Indian Meridian, Marshall County, Oklahoma, being more particularly described as follows:

Commencing at the Southeast corner of the Southeast Quarter of said Section 1; Thence N89°49′51″ W, along the South line of the Southeast Quarter, a distance of 791.92 feet to a point on the East Right-of-Way line of State Highway No. 99 as filed in Book 233 on Page 646 and Book 232 on Page 100 in the Office of the County Clerk, Marshall County, Oklahoma;

THENCE along said East Right-of-Way line for the following Eight (8) courses:

1. Thence N03°46′26″ W., a distance of 49.96 feet;

2. Thence N85°24′26″ W., a distance of 319.80 feet;

3. Thence N03°46′26″ W., a distance of 237.30 feet;

4. Thence N07°32′34″ E., a distance of 306.00 feet;

5. Thence N03°46′26″ W., a distance of 580.00 feet;

6. Thence N15°04′26″ W., a distance of 9.87 feet to the POINT OF BEGINNING;

7. Thence continuing N15°04′26″ W., a distance of 372.63 feet;

8. Thence N03°46′26″ W., a distance of 940.17 feet; Thence S89°53′31″ E. along the North line of a Tract as filed in Book 1003 on Page 08 in the Office of the County Clerk and being parallel with the North line of the Southeast Quarter, a distance of 1079.22 feet to a point on the West line of a tract of land as filed in Book 606 on Page 237 in the office of the County Clerk; Thence S00°00′21″ W., along the West line of said aforementioned tract, a distance of 136.49 feet to the Southwest Corner thereof; Thence N89°59′39″ W., along the North line of a tract of land as described and filed in Book 853 on Page 26 in the Office of the County Clerk, a distance of 30.00 feet to the Northwest Corner thereof; Thence S00°00′21″ W., along the West line of said tract as filed in Book 853 on Page 26 and along the West line of a tract of land as filed in Book 780 on Page 166 in the Office of the County Clerk, a distance of 552.00 feet to the Southwest Corner of the aforementioned Tract; Thence S03°08′23″ E., along the West line of a tract of land as filed in Book 679 on Page 178 in the Office of the County Clerk, a distance of 330.27 feet to the Southwest Corner thereof; Thence S03°54′49″ E., along the West line of a tract of land as filed in Book 358 on Page 231 in the Office of the County Clerk, a distance of 281.05 feet;

THENCE N89°49′51″ W., parallel with the South line of the Southeast Quarter, a distance of 927.64 feet to the POINT OF BEGINNING, having an area of 30.03 Acres. All bearings contained in this legal description were based upon True North by GPS Observation. Prepared on this date, DECEMBER 27, 2013 by Obert D. Bennett, RPLS No. 1471 Oklahoma. SURFACE ONLY.

Dated: June 21, 2017.
Michael S. Black,
Acting Assistant Secretary—Indian Affairs.

[FR Doc. 2017-15009 Filed 7-17-17; 8:45 am]

BILLING CODE 4337-15-P